DEPARTMENT OF LABOR

Occupational Safety and Health Administration

[Docket No. OSHA-2017-0004]

Maritime Advisory Committee for Occupational Safety and Health (MACOSH): Notice of Meeting

AGENCY: Occupational Safety and Health Administration (OSHA), Labor.

ACTION: Notice of MACOSH meeting.

SUMMARY: This Federal Register notice announces meetings of the Maritime Advisory Committee for Occupational Safety and Health (MACOSH) workgroups and full Committee on November 19 and 20, 2019 in Washington, DC.

DATES: MACOSH will meet from 9:00 a.m. until approximately 4:00 p.m., ET.

ADDRESSES: The workgroups and Committee will meet at the U.S. Department of Labor, Frances Perkins Building, 200 Constitution Avenue NW, Washington, DC 20210. The workgroups will meet on November 19, 2019, and the full-committee on November 20, 2019, in Conference Rooms N4437A-D. Meeting attendees must use the visitor's entrance located at 3rd & C Streets, NW.

Submission of comments and requests to speak: Submit comments and requests to speak at the MACOSH meeting, identified by the docket number for this Federal Register notice (Docket No. OSHA-2017-0004), by November 1, 2019, in one of the following methods:

Electronically: You may submit comments, including attachments, electronically at: http://www.regulations.gov, the Federal eRulemaking Portal. Follow the online instructions for submitting nominations.

Facsimile: If your comments, including attachments, do not exceed 10 pages, you may fax them to the OSHA Docket Office at (202) 693-1648.

Regular mail, express mail, hand delivery, and messenger or courier service: You may submit comments and attachments to the OSHA Docket Office, Docket No. OSHA-2017-0004, Occupational Safety and Health Administration, U.S. Department of Labor, Room N-3653, 200 Constitution Avenue NW, Washington, DC 20210. Deliveries (express mail, hand (courier) delivery, and messenger service) are accepted during the OSHA Docket Office's normal business hours, 10:00 a.m. to 3:00 p.m., ET.

Requests for special accommodations: Submit requests for special accommodations for MACOSH and workgroup meetings by November 1, 2019, to Danielle Watson, Occupational Safety and Health Administration, Directorate of Standards and Guidance, Room N-3609, U.S. Department of Labor, 200 Constitution Avenue NW, Washington, DC 20210; telephone (202) 693-2222; email Watson.danielle@dol.gov.

Instructions: All submissions must include the agency name and the OSHA docket number for this Federal Register notice (Docket No. OSHA-2017-0004). Because of security-related procedures, submissions by regular mail may result in a significant delay in receipt. Please contact the OSHA Docket Office for information about security procedures for making submissions by express mail, hand (courier) delivery, and messenger service.

OSHA will place comments and requests to speak, including personal information, in the public docket, which may be available online. Therefore, OSHA cautions interested parties about submitting personal information such as Social Security numbers and birthdates.

Docket: To read or download documents in the public docket for this MACOSH meeting, go to http://www.regulations.gov. All documents in the public docket are listed in the index; however, some documents (e.g., copyrighted material) are not publicly available to read or download through http://www.regulations.gov. All submissions are available for inspection and, when permitted, copying at the OSHA Docket Office at the above address. For information on using http://www.regulations.gov to make submissions or to access the docket, click on the “Help” tab at the top of the homepage. Contact the OSHA Docket Office for information about materials not available through that website and for assistance in using the internet to locate submissions and other documents in the docket.

FOR FURTHER INFORMATION CONTACT:

For press inquiries: Mr. Frank Meilinger, Director, OSHA Office of Communications, U.S. Department of Labor; telephone (202) 693-1999; email meilinger.francis2@dol.gov.

For general information about MACOSH: Ms. Amy Wangdahl, Director, Office of Maritime and Agriculture, OSHA, U.S. Department of Labor; telephone (202) 693-2066; email: wangdahl.amy@dol.gov.

For copies of this Federal Register Notice: Electronic copies of this Federal Register notice are available at http://www.regulations.gov. This notice, as well as news releases and other relevant information, are also available at OSHA's web page at www.osha.gov.

SUPPLEMENTARY INFORMATION: Interested persons may attend the workgroup and full Committee meetings at the time and place listed above. The workgroups will discuss protecting workers when working in confined spaces, fire watch safety, hazards associated with preservative coatings during hot work, lashing safety, mechanic safety, and the update/expansion of OSHA training that pertains to maritime safety. The tentative agenda for the full Committee will include: Updates from OSHA National Office Directorates; updates on maritime enforcement activities from OSHA Regions; and reports from the Longshoring and Shipyard workgroups.

Public Participation: Any individual attending the MACOSH meeting, including the workgroup meetings, at the U.S. Department of Labor, Frances Perkins Building, must use the entrance located at 3rd & C Streets NW and pass through Building Security. Attendees must have valid government-issued photo identification to enter the building. Please contact Danielle Watson at (202) 693-1870 (email: Watson.danielle@dol.gov) for additional information about building security measures for attending the MACOSH Committee and workgroup meetings. Interested parties may submit a request to make an oral presentation to MACOSH by any one of the methods listed in the ADDRESSES section above. The request must state the amount of time requested to speak, the interest represented (e.g., organization name), if any, and a brief outline of the presentation. The MACOSH Chair has discretion to grant requests to address the full Committee as time permits.

Interested parties also may submit written comments, including data and other information, using any one of the methods listed in the ADDRESSES section above. OSHA will provide all submissions to MACOSH members prior to the meeting. Individuals who need special accommodations to attend the MACOSH meeting should contact Danielle Watson as specified above under the heading Requests for special accommodations in the ADDRESSES section.

Authority and Signature

Loren Sweatt, Principal Deputy Assistant Secretary of Labor for Occupational Safety and Health, authorized the preparation of this notice under the authority granted by 29 U.S.C. 655(b)(1) and 656(b), 5 U.S.C. App. 2, Secretary of Labor's Order No. 1-2012 (77 FR 3912), and 29 CFR part 1912.

Signed at Washington, DC, on October 4, 2019.
Loren Sweatt,
Principal Deputy Assistant Secretary of Labor for Occupational Safety and Health.

[FR Doc. 2019-23458 Filed 10-25-19; 8:45 am]

BILLING CODE 4510-26-P